DEPARTMENT OF AGRICULTURE

Forest Service

Lassen National Forest, Almanor Ranger District, California, Creeks Forest Health Recovery Project

AGENCY: Forest Service, USDA.

ACTION: Notice of intent to prepare a supplement to the environmental impact statement.

SUMMARY: In response to Federal District Judge Damrell's August 16, 2006 order regarding the Creeks Forest Health Recovery Project Environmental Impact Statement (EIS) and Record of Decision (ROD), I am preparing a Supplement to the September 2005 Final EIS. Consistent with the Court's findings, this supplement will address the following points from the court order: “(1) The Forest Service violated NEPA by failing to analyze an adequate range of alternatives, particularly alternatives involving less intensive logging. (2) The Forest Service violated NEPA by failing to take a hard look at the Creeks Forest Health Recovery Project's impact on the American marten and the California spotted owl. (3) The Forest Service violated NFMA by failing to insure viable, well-distributed populations of the American marten and the California spotted owl. (4) The Forest Service violated NFMA by approving the Project without appropriate or sufficient population and habitat data for the American marten, the pileated woodpecker, and the black bear.”

SUPPLEMENTARY INFORMATION: On September 9, 2005, Forest Supervisor, Laurie Tippin signed a ROD and released the final EIS for the Creeks Project. This EIS and ROD were challenged in federal district court by the Sierra Nevada Forest Protection Campaign, Sierra Club, and the Lassen Forest Preservation Group. The plaintiffs raised several issues including whether the ROD violated NEPA and NFMA. On August 16, 2006, United States Eastern District Court of California Judge Damrell issued his order granting plaintiff's motion with respect to sufficiency of the range of alternatives analyzed, impacts to and viability of the American marten and the California spotted owl and population and habitat data for the American marten, the pileated woodpecker and the black bear. The judge's order affirmed the Forest Service's motion regarding all other issues raised by plaintiffs. After review of the court's findings, Council on Environmental Quality (CEQ) regulations, Forest Service policy and a review of the FEIS/ROD and administrative record, I have decided that the court order and the public can best be served by preparing a Supplement to the FEIS.

Alternatives: Alternatives considered in the Creeks Forest Health Recovery Project FEIS (September 2005) include Alternative 1—Proposed Action, Alternative 2—No Action, Alternative 14—the Selected Alternative from the Creeks Forest Health Recovery Project Record of Decision (September 2005), and eleven other Alternatives. Alternative 14—the Selected Alternative was developed in response to the significant issue, which is the maintenance of habitat connectivity between areas of suitable habitat for the California spotted owl and American marten. Alternative 14 would implement 9,190 acres of fuel treatments including 5,905 acres of defensible fuel profile zones (DFPZs) and 3,285 acres of individual tree selection (ITS) or area thinning, which would be accomplished by treating surface, ladder and canopy fuels utilizing a combination of commercial timber sales, service contracts, and force account crews. Alternative 14 would also implement 1,186 acres of group selection (GS) and improvements to the existing transportation system including construction of 1.9 miles of new system road, 3.7 miles of new temporary roads, and the upgrade of 5.0 miles of existing non-system road to temporary roads will occur. Other improvements include the reduction of sedimentation from over 80% of the 179 locations where existing roads cross streams (crossings) by improving the road surface at the crossing locations.

Decision to be Made: The purpose and need from the Creeks Forest Health Recovery Project remain unchanged from the September 2005 FEIS. I will use the public response plus interdisciplinary team analysis to decide whether to revise, amend or reaffirm the original Creeks Forest Health Recovery Project Record of Decision.

Scoping Process: The project was initially listed in the Forest's February 2004 quarterly edition of the Schedule of Proposed Actions (SOPA). Scoping letters were sent in June 2004 to those who responded to the SOPA and other identified interested and affected individuals and government agencies. A second scoping process was initiated in February of 2005 when it was determined that the environmental analysis would be documented in an environmental impact statement. Scoping is not required for supplements to environmental impact statements (40 CFR 1502.9(c)4(4)). A public scoping meeting for this Supplement is not anticipated at this time. Scoping letters received by the Forest Service from prior scoping periods will be used for this process.

Identification of Permits or Licenses Required: No permits or licenses have been identified to implement the proposed action.

Lead, Joint Lead, and Cooperating Agencies: The USDA Forest Service is the lead agency for this proposal; there are no cooperating agencies.

Estimated Dates for Filing: The expected filing date with the Environmental Protection Agency for the draft SEIS is April 2007. The expected filing date for the final SEIS is September 2007.

Person to Which Comments May be Mailed: Comments may be submitted to Alfred Vazquez, District Ranger, Almanor Ranger District, at P.O. Box 767, Chester, CA 96020 or (530) 258-5194 (fax) during normal business hours. The Almanor Ranger District business hours are from 8 a.m. to 4:30 p.m. Monday through Friday. Electronic comments in acceptable plain text (.txt), rich text (.rtf), or Word (.doc) formats, may be submitted to: comments-pacificsouthwest-lassen-almanor@fs.fed.us using Subject: Creeks Forest Health Recovery Project.

Reviewer's Obligation to Comment: The comment period on the draft SEIS will be 45 days from the date the Environmental Protection Agency publishes the notice of availability of the draft EIS in the Federal Register.

The Forest Service believes, at this early stage, it is important to give reviewers notice of several court rulings related to public participation in the environmental review process. First, reviewers of draft statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

FOR FURTHER INFORMATION CONTACT: Al Vazquez, District Ranger, or Robin Bryant, Interdisciplinary Team Leader, may be contacted by phone at (530) 258-2141 for more information about the supplemental environmental impact statement or at the Almanor Ranger District, P.O. Box 767, Chester, CA 96020.

Responsible Official and Mailing Address: Laurie Tippin, Forest Supervisor, 2550 Riverside Drive, Susanville, CA 96130, is the responsible official for the Record of Decision.

Dated: December 1, 2006.
Jeff Withroe,
Acting Forest Supervisor, Lassen National Forest.

[FR Doc. 06-9567 Filed 12-6-06; 8:45 am]

BILLING CODE 5410-99-M